CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed. This form is available in alternate formats. Individuals who use a telecommunications device for the deaf (TTY/TDD) may call (202) 606-5256 between the hours of 9:00 a.m. and 4:30 p.m. Eastern time, Monday through Friday.

Currently, the Corporation is soliciting comments concerning the revision of its Financial Status Report form (Standard Form 269A) for National and Community Services Act programs. Copies of the information collection request can be obtained by contacting the office listed below in the ADDRESSES section of this notice.

DATES: Written comments must be submitted to the office listed in the ADDRESSES section by August 7, 2000.

ADDRESSES: Send comments to the Corporation for National and Community Service, Attn: Bruce Cline, Director, Grants Management Office, 1201 New York Avenue, N.W., Suite 8711, Washington, D.C., 20525.

FOR FURTHER INFORMATION CONTACT: Bruce Cline, (202) 606-5000, ext. 440.

SUPPLEMENTARY INFORMATION:

Comment Request

The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and

• Minimize the burden of the collection of information on those who are to respond, including the use of appropriate automated, electronic, mechanical, or other technological collection techniques or other forms of information technology, e.g., permitting electronic submissions of responses.

Background

The National and Community Service Act of 1990, as amended, specifically sections 12571 and 12594, require matching contributions of varying proportion for both program (12571) and member support (12594) costs. Accordingly, our grantees must provide the Corporation information on match according to budget sections (Section A is member support and Sections B-G are other program support costs.) Without these breakdowns, the Corporation cannot accurately calculate match or determine whether the legislated levels are being met.

Current Action

The Corporation seeks OMB approval to request the required reporting information by allowing grantees to utilize the Remarks block, Section 12, of the Standard Form 269A, in the following format:

In Remarks, Section 12, please provide the following:

• For Recipient share of outlays (section 10—Transactions “Previously Reported,” “This period,” and “Cumulative”), please list separately:

(1) Outlays from Budget Section B-G, and

(2) Outlays from Budget Section A for Transactions columns “Previously Reported,” “This Period,” and “Cumulative.”

• For Federal Share of outlays (section 10—Transactions “Previously Reported,” “This Period,” and “Cumulative”), please list separately:

(1) Outlays from Budget Section B-G; and

(2) Outlays from Budget Section A.

• Totals in each column should equal totals from section 10, row a. “Total Outlays.”

Suggested format:

| Previously reported | This period | Cumulative
b. Recipient Share of Outlays:
1. Outlays from Section B-G | $0 | $0 | $0
2. Outlays from Section A | 0 | 0 | 0
c. Federal Share of Outlays:
1. Outlays from Section B-G | 0 | 0 | 0
2. Outlays from Section A | 0 | 0 | 0
Totals | 0 | 0 | 0

This information will not require any modification to the SF 269A. The Corporation will request the information from its grantees by an instruction letter in the beginning, and most grantees will continue to provide the information electronically from that point forward.

Type of Review: Request for additional information.

Agency: Corporation for National and Community Service.

Title: Standard Form 269A, Financial Status Report.

OMB Number: 0348-0038.

Agency Number: None.

Affected Public: Organizations with an approved grant.

Total Respondents: 350.

Frequency: 2 responses per grantee.

Average Time Per Response: 60 minutes.

Estimated Total Burden Hours: 700 hours.

Total Burden Cost (capital/startup): None.

Total Burden Cost (operating/maintenance): None.

Comments submitted in response to this notice will be summarized and/or included in the request for Office of Management and Budget approval of the information collection request; they will also become a matter of public record.

Dated: June 1, 2000.
Bruce H. Cline,
Director of Grants Management.

[FR Doc. 00-14102 Filed 6-5-00; 8:45 am]

BILLING CODE 6050-28-P